COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List that were previously furnished by nonprofit agencies employing persons who are blind or have other severe disabilities.

DATES: Date deleted from the Procurement List: January 20, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 11/16/2018 (83 FR 222), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSNs—Product Names:

MR 10722—Sticker Book, Halloween, Includes Shipper 20722

MR 378—Christmas Sticker Book

MR 833—Onion Saver

Mandatory Source of Supply: Winston-Salem Industries for the Blind, Inc., Winston-Salem, NC

Contracting Activity: Defense Commissary Agency

Services

Service Type: Laundry Service

Mandatory for: USDA, National Animal Disease Center: 2300 Dayton Avenue, Ames, IA

Mandatory Source of Supply: Genesis Development, Jefferson, IA

Contracting Activity: ANIMAL AND PLANT HEALTH INSPECTION SERVICE, USDA APHIS MRPBS

Service Type: Janitorial/Custodial Service

Mandatory for: U.S. Army Reserve Center: 1635 Berks Road, Norristown, PA

Mandatory Source of Supply: The Chimes, Inc., Baltimore, MD

Contracting Activity: DEPT OF THE ARMY, W40M NORTHEREGION CONTRACT OFC

Service Type: Janitorial/Custodial Service

Mandatory for: U.S. Army Reserve Center: Santa Rosa, Santa Rosa, CA

Mandatory Source of Supply: UNKNOWN

Contracting Activity: DEPT OF THE ARMY, W40M NORTHEREGION CONTRACT OFC

Service Type: Distribution Service

Mandatory for: Department of Transportation: 400 7th Street SW, Library and Distribution Services, Washington, DC

Mandatory Source of Supply: ServiceSource, Inc., Oakton, VA

Contracting Activity: Government Printing Office

Amy B. Jensen,
Director, Business Operations.

[FR Doc. 2018-27684 Filed 12-20-18; 8:45 am]

BILLING CODE 6353-01-P